DEPARTMENT OF THE INTERIOR

Bureau of Indian Affairs

[256A2100DD/AAKC001030/A0A501010.000000]

Mashpee Wampanoag Tribe Liquor Control Ordinance

AGENCY: Bureau of Indian Affairs, Interior.

ACTION: Notice.

SUMMARY: This notice publishes the Mashpee Wampanoag Tribe Liquor Control Ordinance.

DATES: The Liquor Ordinance is effective on October 14, 2025.

FOR FURTHER INFORMATION CONTACT: Ms. Rebecca J. Smith, Tribal Operations Specialist, Eastern Regional Office, Bureau of Indian Affairs, 545 Marriott Drive, Suite 700, Nashville, Tennessee 37214, Telephone: (615) 564-6711, Fax: (615) 564-6701.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor control ordinances for the purpose of regulating liquor transactions in Indian country. On April 30, 2025, the Mashpee Wampanoag Tribal Council adopted the Mashpee Wampanoag Tribal Liquor Control Ordinance by 2025-RES-034, which regulates and controls the sale, purchase, transportation, manufacture, consumption, and possession of alcoholic beverages on the trust lands of the Mashpee Wampanoag Tribe.

This notice is published in accordance with the authority delegated by the Secretary of the Interior to the Assistant Secretary—Indian Affairs. I certify that the Mashpee Wampanoag Tribe duly adopted the Mashpee Wampanoag Tribal Liquor Control Ordinance by 2025-RES-034 dated April 30, 2025.

Janel Broderick,
Principal Deputy Assistant Secretary—Indian Affairs, Exercising the delegated authority of the Assistant Secretary—Indian Affairs.

The Mashpee Wampanoag Tribal Liquor Control Ordinance shall read as follows:

MASHPEE WAMPANOAG TRIBAL LIQUOR CONTROL ORDINANCE

Table of Contents

SECTION 1. Findings

SECTION 2. Authority and Purpose

SECTION 3. Definitions

SECTION 4. Jurisdiction

SECTION 5. Liquor License Requirement

SECTION 6. Sale and Service of Liquor

SECTION 7. Possession of Alcohol

SECTION 8. Prohibitions

SECTION 9. Establishment of Licensing Department

SECTION 10. Notice of Violations; Penalties

SECTION 11. Liquor License Fee Schedule

SECTION 12. Taxation

SECTION 13. Applicability

SECTION 14. No Waiver of Sovereign Immunity

SECTION 15. Compliance With State Law

SECTION 16. Repealer

SECTION 17. Severability

SECTION 18. Effective Date

Wampanoag Tribal Council does ordain as follows:

SECTION 1. Findings

(a) The Mashpee Wampanoag Tribe is a federally-recognized Indian tribe with a duly-enacted Constitution, pursuant to which the governing body of the Tribe is its Tribal Council.

(b) Article VI, § 2.A. of the Constitution, provides that the Tribal Council is empowered to promote and protect the health, peace, morals, education, political integrity, economic security and general welfare of the Tribe and its members.

(c) Article VI, § 2.B of the Constitution provides that the Tribal Council is empowered to establish a departmental structure for the Tribal government with a delegation of appropriate powers to such subdivisions and agencies.

(d) Article VI, § 2.C of the Constitution expressly authorizes the Tribal Council to establish procedures and ordinances for the conduct of all Tribal government business.

(e) Article VI, § 2.L. of the Constitution provides that the Tribal Council is empowered to establish and enforce all ordinances governing Tribal members.

(f) Pursuant to 18 U.S.C. 1154, Federal law prohibits the introduction of liquor into Indian Country and authorizes tribes to decide when and to what extent liquor transactions, sales, possession and service shall be permitted on their Tribal Lands.

(g) The Tribal Council deems it necessary to regulate and control the purchase, sale, manufacture, possession, consumption and distribution of liquor on Tribal Lands for the safety of the Tribe, its Tribal members, Tribal employees, and members of the public present on Tribal lands.

SECTION 2. Authority and Purpose

(a) This Liquor Control Ordinance is enacted pursuant to the authority contained in Article VI, §§ 2.A, 2.B, 2.C and 2.L.

(b) The purpose of the Ordinance is to adopt, as laws of the Tribe, this Liquor Control Ordinance and establish the laws applicable to the purchase, sale, manufacture, possession, consumption and distribution of liquor on Tribal Lands.

(c) The Tribe has established business enterprises and welcomes patrons to visit these Tribal businesses, venues and events wherein the Tribe may permit the sale of liquor by the Tribe, its instrumentalities, entities and authorities as well as licensed persons and entities. The imposition of this Ordinance will provide a source of revenue for the Tribe to pay for critical services to support our Tribal community, Tribal programs and continued economic development on Tribal Lands.

SECTION 3. Definitions

Unless otherwise required by the context, the term “liquor” as used throughout the Ordinance shall mean “alcohol”, “alcoholic beverages”, “liqueur or cordial”, “malt beverages” and “wine” as those terms are defined by the Massachusetts State Liquor Control Act, M.G.L. Chapter 138 Section 1 as amended and incorporated by reference herein.

For purposes of this Ordinance, the following definitions shall apply:

(a) “Cultural Sites” means a site of cultural, spiritual and historical significance to the Tribe. These sites include, but are not limited to, the following:

a. Mashpee Wampanoag Tribal Museum, 414 Main Street, Mashpee;

b. Mashpee Old Indian Meetinghouse and surrounding cemetery grounds, 410 and 414 Meetinghouse Road, Mashpee;

c. 55 Acre Ceremonial Area, 483 Great Neck Road South, Mashpee (Rear of property).

(b) “Liquor License” means the license issued to a person or entity by the Mashpee Wampanoag Liquor Control Department authorizing the sale, distribution, storage, transportation and possession of Liquor on Tribal Lands consistent with applicable law.

(c) “Tribal Council” means the Tribal Council of the Mashpee Wampanoag Tribe.

(d) “Tribal Lands” means any lands legally held by the United States of America in trust for the benefit of the Tribe and other lands over which the Tribe may exercise jurisdiction.

(e) “Tribe” means the Mashpee Wampanoag Tribe, a federally recognized Indian Tribe.

SECTION 4. Jurisdiction

To the extent permitted by applicable law, the Tribe asserts jurisdiction to determine whether liquor sales and service are permitted on Tribal Lands. Nothing in this Ordinance is intended nor shall be construed to limit the jurisdiction of the Tribe over Tribal Lands.

SECTION 5. Liquor License Requirement

Any person or entity intending to possess, sell and/or distribute, transport or store Liquor on Tribal Lands must provide proof of a valid Liquor License prior to taking any such action on Tribal Lands in accordance with this Ordinance. For possession of Liquor only, Tribal Council may waive the Liquor License requirement for events, venues or other circumstances.

SECTION 6. Sale and Service of Liquor

Liquor may be offered for sale and may be served on Tribal Lands only in those areas of Tribal Lands that have been approved by the Tribal Council and in conformity with the requirements of this Ordinance as well as applicable Tribal Law, Federal Law and the laws of the Commonwealth of Massachusetts.

SECTION 7. Possession of Alcohol

Possession of Liquor may be permitted on Tribal Lands only in those areas of Tribal Lands that have been approved by the Tribal Council and in conformity with the requirements of this Ordinance as well as applicable Tribal Law, Federal Law and the laws of the Commonwealth of Massachusetts.

SECTION 8. Prohibitions

It shall be a violation of Tribal Law for any person or entity to manufacture, sell, transport, import, deliver, furnish, purchase, consume or possess any liquor except as authorized by this Ordinance. Federal liquor laws applicable to Indian Country shall remain applicable to any person, act, or transaction which is not authorized by this Ordinance and violators of this Ordinance shall be subject to federal prosecution as well as to legal action in accordance with Tribal Law.

Furthermore, the following is strictly prohibited and a violation of Tribal Law:

(a) Possession of Liquor at Cultural Sites;

(b) Possession of open containers of Liquor, or unopened containers of Liquor in bottles, cans, or otherwise outside of those areas of Tribal Lands approved by the Tribal Council.

SECTION 9. Establishment of Liquor Control Department

(a) Establishment. The Mashpee Wampanoag Tribal Council hereby establishes the Mashpee Wampanoag Liquor Control Department. During any period in which the Liquor Control Department is not occupied, the Mashpee Wampanoag Tribal Gaming Commission shall serve as the Liquor Control Department.

(b) Department Responsibilities.

(1) The primary responsibility of the Department shall be to enforce the Tribe's Liquor Control Code on Tribal Lands.

(2) The Department shall have the authority to authorize the sale of liquor only on those areas of Tribal Lands that have been approved by the Tribal Council.

(3) The Department shall perform such other duties as may be delegated to the Department by Tribal Council.

(4) The Department shall have the authority to issue Liquor Licenses to persons and entities permitting the sale, distribution, storage, transportation and possession of liquor on Tribal Lands.

(5) The Department shall have the duty to make such reports to Tribal Council as required; to compile information and conduct background investigations to determine the suitability of an applicant for a Liquor License; to collect fees set in accordance with this Ordinance, to keep accurate records, books and accounts; and to develop application forms, licenses and other relevant documents required to enforce this Ordinance.

(6) The Department shall have the authority and duty to take or facilitate actions necessary to implement applicable provisions of State law, as required; to coordinate with other departments and agencies of the Tribe to ensure the effective enforcement of this Ordinance and applicable regulations.

(7) It shall be the duty of the Department to see that all ordinances, resolutions and regulations of the Tribal Council pertaining to the Department are properly complied with.

SECTION 10. Notice of Violation; Penalties

Any person who violates this Ordinance shall be subject to a civil fine of not more than $250 for each violation involving possession, but up to $5,000 for each violation. Neither the Tribe nor any of its instrumentalities, entities and authorities will be required to pay any such fine. In addition, persons or entities subject to the criminal jurisdiction of the Tribe who violate this Ordinance may be subject to criminal penalties as provided in applicable Tribal criminal law. All contraband liquor shall be immediately confiscated by the Mashpee Wampanoag Tribal Police. The Mashpee Wampanoag Tribal Court shall have exclusive jurisdiction to enforce this Ordinance, civil fines, and criminal punishment, if applicable.

SECTION 11. Liquor License Fee Schedule

The Tribal Council may set a fee schedule that may be amended from time to time and applied to all liquor license applications. Neither the Tribe nor any of its instrumentalities, entities and authorities will be required to pay such a fee. The Tribal Council may waive imposition of the License fee should good cause be shown by the person or entity.

SECTION 12. Taxation

Nothing contained in this Ordinance is intended to, nor does it in any way, limit or restrict the Tribe's ability to impose tax upon the sale or consumption of liquor. The Tribe retains the right to impose such taxes to the fullest extent permitted by Federal law.

SECTION 13. Applicability

This Ordinance shall apply to all Tribal Lands of the Mashpee Wampanoag Tribe.

SECTION 14. No Waiver of Sovereign Immunity

Nothing in this Ordinance shall be construed to waive, alter, or amend the Tribe's sovereign immunity or the sovereign immunity of any of the Tribe's departments, committees, commissions, enterprises, agencies, instrumentalities, authorities, officers, agents, or employees.

SECTION 15. Compliance With State Law

Authorized liquor sales and service on Tribal Lands shall comply with the Massachusetts State Liquor Control Act standards to the extent required by 18 U.S.C. 1161.

SECTION 16. Repealer

Subject to the contractual right of any party to an existing contract binding on a Tribal Party and any limitations arising from the Constitution, all ordinances, laws (other than the Constitution), judgments, decisions, orders, resolutions, rules, regulations or other actions, or any part or provision thereof, of any Tribal Party, or any of the officers, employees, or agents of the foregoing, whether written, unwritten or established by tradition, that are in effect as of the date hereof and that are in conflict or inconsistent with the terms of this Ordinance are hereby repealed and annulled to the extent of such conflict or inconsistency, and this ordinance shall supersede the same.

SECTION 17. Severability

If any section, subsection, sentence, or other portion if this Ordinance is, for any reason, held invalid or unconstitutional by any court of competent jurisdiction, such portion shall be deemed to be a separate, distinct, and independent provision and such holding shall not affect the validity of the remaining portions of this Ordinance.

SECTION 18. Effective Date

This Ordinance shall take effect immediately upon adoption by the Tribal Council. Thereafter it shall be enforced in accordance with the Constitution and laws of the Tribe.

[FR Doc. 2025-17658 Filed 9-11-25; 8:45 am]

BILLING CODE 4337-15-P